DEPARTMENT OF THE INTERIOR

Bureau of Indian Affairs

[156A2100DD/AAKC001030/A0A501010.999900 253G]

Renewal of Agency Information Collection for Class III Gaming; Tribal Revenue Allocation Plans; Gaming on Trust Lands

AGENCY: Bureau of Indian Affairs, Interior.

ACTION: Notice of request for comments.

SUMMARY: In compliance with the Paperwork Reduction Act of 1995, the Assistant Secretary—Indian Affairs is seeking comments on the renewal of Office of Management and Budget (OMB) approval for the collection of information for Class III Gaming Procedures authorized by OMB Control Number 1076-0149, Tribal Revenue Allocation Plans authorized by OMB Control Number 1076-0152, and Gaming on Trust Lands Acquired After October 17, 1988 authorized by OMB Control Number 1076-0158. These information collections expire January 31, 2016.

DATES: Submit comments on or before November 13, 2015.

ADDRESSES: You may submit comments on the information collection to Paula Hart, U.S. Department of the Interior, Office of Indian Gaming, 1849 C Street NW., Mail Stop 3657, Washington, DC 20240; email: indiangaming@bia.gov.

FOR FURTHER INFORMATION CONTACT: Paula Hart, (202) 219-4066.

SUPPLEMENTARY INFORMATION:

I. Abstract

The Assistant Secretary—Indian Affairs is seeking comments on the Class III Gaming Procedures, Tribal Revenue Allocation Plans, and Gaming on Trust Lands Acquired After October 17, 1988, as we prepare to renew these collections are required by the Paperwork Reduction Act of 1995. This information is necessary for the Office of Indian Gaming, to ensure that the applicable requirements for the Indian Gaming Regulatory Act (IGRA), 25 U.S.C. 2701 et seq., are met with regard to Class III gaming procedures, tribal revenue allocation plans, and applications for gaming on trust lands acquired after October 17, 1988.

II. Request for Comments

The Assistant Secretary—Indian Affairs requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor, and an individual need not respond to, a collection of information unless it displays a valid OMB Control Number.

It is our policy to make all comments available to the public for review at the location listed in the ADDRESSES section. Before including your address, phone number, email address or other personal identifying information in your comment, you should be aware that your entire comment—including your personal identifying information—may be made publicly available at any time. While you can ask us in your comment to withhold your personal identifying information from public review, we cannot guarantee that we will be able to do so.

III. Data

OMB Control Number: 1076-0149.

Title: Class III Gaming Procedures, 25 CFR 291.

Brief Description of Collection: The collection of information will ensure that the provisions of IGRA and other applicable requirements are met when federally recognized tribes submit Class III procedures for review and approval by the Secretary of the Interior. Sections 291.4, 291.10, 291.12 and 291.15 of 25 CFR part 291, Class III Gaming Procedures, specify the information collection requirement. An Indian tribe must ask the Secretary to issue Class III gaming procedures. The information to be collected includes: The name of the tribe, the name of the State, tribal documents, State documents, regulatory schemes, the proposed procedures, and other documents deemed necessary.

Type of Review: Extension without change of currently approved collection.

Respondents: Federally recognized Indian tribes.

Number of Respondents: 12.

Estimated Time per Response: 320 hours.

Estimated Total Annual Hour Burden: 3,840 hours.

Estimated Total Annual Non-Hour Dollar Cost: $0.

OMB Control Number: 1076-0152.

Title: Tribal Revenue Allocation Plans, 25 CFR 290.

Brief Description of Collection: An Indian tribe must ask the Secretary to approve a tribal revenue allocation plan. In order for Indian tribes to distribute net gaming revenues in the form of per capita payments, information is needed by the BIA to ensure that tribal revenue allocation plans include (1) Assurances that certain statutory requirements are met, (2) a breakdown of the specific uses to which net gaming revenues will be allocated, (3) eligibility requirements for participation, (4) tax liability notification, and (5) the assurance of the protection and preservation of the per capita share of minors and legal incompetents. Sections 290.12, 290.17, 290.24 and 290.26 of 25 CFR part 290, Tribal Revenue Allocation Plans, specify the information collection requirement. The information to be collected includes: the name of the tribe, tribal documents, the allocation plan, and other documents deemed necessary.

Type of Review: Extension without change of currently approved collection.

Respondents: Federally recognized Indian tribes.

Number of Respondents: 20.

Estimated Time per Response: 100 hours.

Estimated Total Annual Hour Burden: 2,000 hours.

Estimated Total Annual Non-Hour Dollar Cost: $0.

OMB Control Number: 1076-0158.

Title: Gaming on Trust Lands Acquired After October 17, 1988, 25 CFR 292.

Brief Description of Collection: The collection of information will ensure that the provisions of IGRA, Federal law, and the trust obligations of the United States are met when federally recognized tribes submit an application under 25 CFR part 292. The applications covered by this OMB Control No. are those seeking a Secretarial determination that a gaming establishment on land acquired in trust after October 17, 1988 would be in the best interest of the Indian tribe and its members, and would not be detrimental to the surrounding community.

Type of Review: Extension without change of currently approved collection.

Respondents: Federally recognized Indian tribes.

Number of Respondents: 2.

Estimated Time per Response: 1,000 hours.

Frequency of Response: Once.

Estimated Total Annual Burden: 2,000 hours.

Estimated Total Annual Non-Hour Dollar Cost: $0.

Elizabeth K. Appel,
Director, Office of Regulatory Affairs and Collaborative Action—Indian Affairs.

[FR Doc. 2015-22960 Filed 9-11-15; 8:45 am]

BILLING CODE 4337-15-P